DEPARTMENT OF ENERGY

Federal Energy Regulatory Commission

[Docket Nos. RP01-35-001 and RP01-92-001]

Norteño Pipeline Company; Notice of Tariff Compliance Filing

May 24, 2002.

Take notice that on May 13, 2002, Norteño Pipeline Company (“Norteño”), tendered for filing as part of its FERC Gas Tariff, First Revised Volume No. 1, the following pro forma tariff sheets:

Pro Forma Sheet No. 252

Pro Forma Sheet No. 257

Norteño states that these pro forma tariff sheets reflect the limited changes to its tariff that are required to comply with the Commission's April 12, 2002 Order.

Norteño states that copies of this filing have been served on Norteño's jurisdictional customers and public bodies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13678 Filed 5-30-02; 8:45 am]

BILLING CODE 6717-01-P